DEPARTMENT OF COMMERCE

International Trade Administration

[A-570-209]

Fiberglass Door Panels From the People's Republic of China: Preliminary Affirmative Determination of Sales at Less Than Fair Value, Postponement of Final Determination and Extension of Provisional Measures

AGENCY: Enforcement and Compliance, International Trade Administration, Department of Commerce.

SUMMARY: The U.S. Department of Commerce (Commerce) preliminarily determines that fiberglass door panels from the People's Republic of China (China) are being, or are likely to be, sold in the United States at less than fair value (LTFV). The period of investigation (POI) is July 1, 2024, through December 31, 2024. Interested parties are invited to comment on this preliminary determination.

DATES: Applicable January 22, 2026.

FOR FURTHER INFORMATION CONTACT: Samuel Frost or Miranda Bourdeau, AD/CVD Operations, Office V, Enforcement and Compliance, International Trade Administration, U.S. Department of Commerce, 1401 Constitution Avenue NW, Washington, DC 20230; telephone: (202) 482-8180 or (202) 482-2021, respectively.

SUPPLEMENTARY INFORMATION:

Background

This preliminary determination is made in accordance with section 733(b) of the Tariff Act of 1930, as amended (the Act). Commerce published the notice of initiation of this investigation in the Federal Register on April 15, 2025.¹ On August 12, 2025 Commerce postponed the preliminary determination of this investigation by 50 days.²

¹ See Fiberglass Door Panels from the People's Republic of China: Initiation of Less-Than-Fair-Value Investigation, 90 FR 15684 (April 15, 2025) (Initiation Notice).

² See Fiberglass Door Panels from the People's Republic of China: Postponement of Preliminary Determinations of Less-Than-Fair Value Investigation, 90 FR 38725 (August 12, 2025).

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for this preliminary determination is now December 23, 2025.

³ See Memorandum, “Deadlines Affected by the Shutdown of the Federal Government,” dated November 14, 2025.

⁴ See Memorandum, “Tolling of all Case Deadlines,” dated November 24, 2025.

For a complete description of the events that followed the initiation of this investigation, see the Preliminary Decision Memorandum.⁵ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Determination in the Less-Than-Fair-Value Investigation of Fiberglass Door Panels from the People's Republic of China,” dated concurrently with, and hereby adopted by, this notice (Preliminary Decision Memorandum).

Scope of the Investigation

The products covered by this investigation are fiberglass door panels from China. For a complete description of the scope of this investigation, see Appendix I.

Scope Comments

In accordance with the Preamble to Commerce's regulations,⁶ in the Initiation Notice, Commerce set aside a period of time for parties to raise issues regarding product coverage (i.e., scope).⁷ Certain interested parties commented on the scope of the investigation as it appeared in the Initiation Notice. For a summary of the product coverage comments and rebuttal responses submitted on the record of this investigation, and accompanying discussion and analysis of all comments timely received, see the Preliminary Scope Decision Memorandum.⁸ As discussed in the Preliminary Scope Decision Memorandum, Commerce preliminarily modified the scope language as it appeared in the Initiation Notice. In the Preliminary Scope Decision Memorandum, Commerce established the deadline for parties to submit scope case and rebuttal briefs.

⁶ See Antidumping Duties; Countervailing Duties, Final Rule, 62 FR 27296, 27323 (May 19, 1997) (Preamble).

⁷ See Initiation Notice, 89 FR at 58117.

⁸ See Memorandum, “Antidumping and Countervailing Duty Investigations of Fiberglass Door Panels from the People's Republic of China: Preliminary Scope Decision Memorandum,” dated concurrently with this preliminary determination (Preliminary Scope Decision Memorandum).

Methodology

Commerce is conducting this investigation in accordance with section 731 of the Act. Commerce has calculated export prices in accordance with section 772(a) of the Act. Commerce has calculated constructed export prices in accordance with section 772(b) of the Act. Because China is a non-market economy (NME), within the meaning of section 771(18) of the Act, Commerce has calculated normal value in accordance with section 773(c) of the Act. Furthermore, pursuant to sections 776(a) and (b) of the Act, Commerce preliminarily has relied upon facts otherwise available, with adverse inferences, for the China-wide entity. For a full description of the methodology underlying Commerce's preliminary determination, see the Preliminary Decision Memorandum.

Combination Rates

In the Initiation Notice,⁹ Commerce stated that it would calculate producer/exporter combination rates for the respondents that are eligible for a separate rate in this investigation. Policy Bulletin 05.1 describes this practice.¹⁰

⁹ See Initiation Notice, 90 FR at 15687.

¹⁰ See Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Separate Rates

We have preliminarily granted a separate rate to certain companies that we did not select for individual examination.¹¹ In calculating the rate for non-individually examined separate rate respondents in an NME LTFV investigation, Commerce normally looks to section 735(c)(5)(A) of the Act, which pertains to the calculation of the all-others rate in a market economy LTFV investigation, for guidance. Pursuant to section 735(c)(5)(A) of the Act, normally this rate shall be an amount equal to the weighted average of the estimated weighted-average dumping margins established for those companies individually examined, excluding zero and de minimis dumping margins, and any dumping margins based entirely under section 776 of the Act. Commerce calculated individual estimated weighted-average dumping margins for Dalian Capstone Engineering Co., Ltd. (Dalian Capstone) and Jiangxi Fangda Tech Co., Ltd. (Jiangxi Fangda) that are not zero, de minimis, or based entirely on facts otherwise available. Thus, we assigned a margin to the non-examined, separate rate companies based on a simple average of the estimated weighted-average dumping margins calculated for Dalian Capstone and Jiangxi Fangda, as listed below. See the table below in the “Preliminary Determination” section of this notice.

¹¹ See Preliminary Decision Memorandum.

Preliminary Determination

Commerce preliminarily determines that the following estimated weighted-average dumping margins exist:

Producer | Exporter | Weighted- average dumping margin (percent) | Cash deposit rate (adjusted for subsidy offsets) (percent)
Anhui Xinyu Fiberglass Door Co., Ltd | Anhui Xinyu Fiberglass Door Co., Ltd | 68.93 | 68.87
Wuxi Lutong Fiberglass Doors Co., Ltd | East Grace Corporation | 68.93 | 68.87
Dalian Capstone Engineering Co., Ltd | Dalian Capstone Engineering Co., Ltd | 38.78 | 38.75
Jiangxi Fangda Tech Co., Ltd./Jiangxi Hangda Tech Co., Ltd./Jiangxi Onda Tech Co., Ltd | Jiangxi Fangda Tech Co., Ltd./Jiangxi Hangda Tech Co., Ltd./Jiangxi Onda Tech Co., Ltd | 99.49 | 99.40
Wuxi Lutong Fiberglass Door Co., Ltd | Wuxi Xinli New Material Co., Ltd | 68.93 | 68.87
China-Wide Entity |  | * 147.85 | 147.82
* This rate is based on facts available with adverse inferences.

Disclosure

Commerce intends to disclose its calculations and analysis performed to interested parties in this preliminary determination within five days of any public announcement or, if there is no public announcement, within five days of the date of publication of this notice in the Federal Register in accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Suspension of Liquidation

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-country exporters of merchandise under consideration not listed in the table above, the cash deposit rate is the cash deposit rate applicable to the Chinese producer/exporter combination (or the China-wide entity) that supplied that third-country exporter.

To determine the cash deposit rate, Commerce normally adjusts the estimated weighted-average dumping margin by the amount of export subsidies determined in a companion countervailing duty (CVD) proceeding when CVD provisional measures are in effect. Accordingly, where Commerce has made a preliminary affirmative determination for export subsidies, Commerce has offset the calculated estimated weighted-average dumping margin by the appropriate rate(s). Any such adjusted rates may be found in the chart of estimated weighted-average dumping margins above.

Should provisional measures in the companion CVD investigation expire prior to the expiration of provisional measures in this LTFV investigation, Commerce will direct CBP to begin collecting cash deposits at a rate equal to the estimated weighted-average dumping margins calculated in this preliminary determination unadjusted for the export subsidies at the time the CVD provisional measures expire.

These suspension of liquidation instructions will remain in effect until further notice.

Verification

As provided in section 782(i)(1) of the Act, Commerce intends to verify information relied upon in making its final determination.

Public Comment

Case briefs or other written non-scope-related comments may be submitted to the Assistant Secretary for Enforcement and Compliance no later than seven days after the date on which the last verification report is issued in this investigation.¹² Rebuttal briefs, limited to issues raised in the case briefs, may be filed not later than five days after the date for filing case briefs.¹³ Interested parties who submit case briefs or rebuttal briefs in this proceeding must submit: (1) a table of contents listing each issue; and (2) a table of authorities.¹⁴

¹² Case and rebuttal briefs submitted in response to this preliminary determination should not include scope-related issues. See 19 CFR 351.309(c)(1)(i); see also 19 CFR 351.303 (for general filing requirements).

¹³ See 19 CFR 351.309(d); see also Administrative Protective Order, Service, and Other Procedures in Antidumping and Countervailing Duty Proceedings, 88 FR 67069, 67077 (September 29, 2023) (APO and Service Final Rule).

¹⁴ See 19 CFR 351.309(c)(2) and (d)(2).

As provided under 19 CFR 351.309(c)(2)(iii) and (d)(2)(iii), we request that interested parties provide at the beginning of their briefs a public, executive summary for each issue raised in their briefs.¹⁵ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁶

¹⁵ We use the term “issue” here to describe an argument that Commerce would normally address in a comment of the Issues and Decision Memorandum.

¹⁶ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping determination be accompanied by a request for extension of provisional measures from a four-month period to a period not more than six months in duration.

On December 4, 2025, pursuant to 19 CFR 351.210(e), Dalian Capstone requested that, in the event of an affirmative preliminary determination, Commerce postpone the final determination and that provisional measures be extended to a period not to exceed six months.¹⁷ In accordance with section 735(a)(2)(A) of the Act and 19 CFR 351.210(b)(2)(ii), because: (1) the preliminary determination is affirmative; (2) the requesting exporter accounts for a significant proportion of exports of the subject merchandise; and (3) no compelling reasons for denial exist, Commerce is postponing the final determination and extending the provisional measures from a four-month period to a period not greater than six months. Accordingly, Commerce will make its final determination no later than 135 days after the date of publication of this preliminary determination.

¹⁷ See Dalian Capstone's Letter, “Request to Postpone the Deadline for the Final Determination,” dated December 4, 2025.

U.S. International Trade Commission Notification

In accordance with section 733(f) of the Act, Commerce will notify the U.S. International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: December 23, 2025.
Christopher Abbott,
Deputy Assistant Secretary for Policy and Negotiations, performing the non-exclusive functions and duties of the Assistant Secretary for Enforcement and Compliance.

Appendix I

Scope of the Investigation

The merchandise covered by this investigation consists of fiberglass door panels, including fiberglass sidelites, whether finished or unfinished, whether assembled or unassembled, whether pre-hung or included in an entry door system. The subject fiberglass door panels consist of at least one fiberglass skin, and may contain (1) frames typically made of wood or composite stiles, bottom rails, and top rails, (2) binding materials, including adhesives or fasteners, and (3) insulation foam or other insulating material, and may be assembled with glass lites (glass that is ultimately installed in the fiberglass door panel). Fiberglass sidelites (or “sidelights”) are typically smaller in width than fiberglass door panels, and consist of at least one fiberglass skin, and may contain (1) frames typically made of wood or composite stiles, bottom rails, and top rails, (2) binding materials, including adhesives or fasteners, and (3) insulation foam or other insulating material, and may be assembled with glass lites (glass that is ultimately installed in the fiberglass sidelite). Subject merchandise includes fiberglass door panels and sidelites whether the fiberglass skin surface is painted or unpainted, contains or does not contain cut-outs for door components, or assembled or unassembled with glass lites in the door.

The country of origin of the fiberglass door panel is determined by where the fiberglass door skin is pressed.

Fiberglass door panels and sidelites are covered by the investigation whether they are imported attached to, or in conjunction with door components and accessories (including but not limited to door jambs, door handles, locks, hinges, door stoppers, door kicks, door thresholds, door sills, and trim), in a pre-hung door system, or an entry door system. Subject fiberglass door panels and sidelites are covered whether or not they are accompanied by other parts. However, if a subject fiberglass door panel or sidelite is imported in a pre-hung door system or entry door system, only the fiberglass door panel and sidelite, including when assembled with glass lites or when the glass lites are shipped with the subject merchandise for further assembly, are covered by the scope. Door components and accessories (including but not limited to transoms, door jambs, door handles, locks, hinges, door stoppers, door kicks, door thresholds, door sills, and trim) are not included in the scope when imported with a fiberglass door panel or sidelite, including when such components or accessories are assembled to a fiberglass door panel or sidelite, or when imported separately. Subject merchandise may be impact-rated to withstand hurricane force wind loads and may be reinforced with steel sheet or plate. Impact-rated doors may be certified to Testing Application Standards (TAS) 201/202/203-94/and American Society for Testing and Materials (ASTM) E330-02/14/M-14, E1886-05/13a/, or E1996-09/14a.

Subject merchandise may be fire-rated for up to 90 minutes and may contain flame retardant composites, including, but not limited to flame retardant foam or mineral core materials, including but not limited to low density calcium silicate. Fire-rated doors generally satisfy the National Fire Protection Association (NFPA) 252 Standard Methods of Fire Tests of Door Assemblies and UL10(b) and (c)-Standard for Safety-Fire Tests of Door Assemblies.

Subject merchandise also includes fiberglass door panels and sidelites that have been processed in a third country, including but not limited to one or more of the following: filling with insulation foam, trimming, cutting, notching, punching, drilling, painting, finishing, assembly, or any other processing that would not otherwise remove the merchandise from the scope of the investigation if performed in the country of manufacture of the in-scope product. The inclusion of other parts, such as door components and accessories (including but not limited to door jambs, door handles, locks, hinges, door stoppers, door kicks, door thresholds, door sills, and trim) in a third country does not remove the fiberglass door panels and sidelites from the scope.

Excluded from the scope of this investigation are all products covered by the scope of the antidumping duty and countervailing duty orders on wood mouldings and millwork products from China. See Wood Mouldings and Millwork Products from the People's Republic of China: Amended Final Antidumping Duty Determination and Antidumping Duty Order, 86 FR 9486 (February 16, 2021); and Wood Mouldings and Millwork Products from the People's Republic of China: Countervailing Duty Order, 86 FR 9484 (February 16, 2021).

Excluded from the scope of this investigation are all products covered by the scope of the antidumping duty and countervailing duty proceedings on float glass products from China. See Float Glass Products from the People's Republic of China and Malaysia: Initiation of Less-Than-Fair-Value Investigations, 90 FR 1435 (January 8, 2025); and Float Glass Products from the People's Republic of China and Malaysia: Initiation of Countervailing Duty Investigations, 90 FR 1443 (January 8, 2025).

Imports of subject merchandise are classified under Harmonized Tariff Schedule of the United States (HTSUS) statistical number 3925.20.0010. Subject merchandise may also be classified under 4418.29.4000, 4418.29.8030, 4418.29.8060, or 7019.90.5150. The HTSUS subheadings are provided for convenience and customs purposes; the written description of the scope of this investigation is dispositive.

Appendix II

List of Topics Discussed in the Preliminary Decision Memorandum

I. Summary

II. Background

III. Period of Investigation

IV. Discussion of the Methodology

V. Adjustment Under Section 777A(F) of the Act

VI. Adjustment to Cash Deposit Rate for Export Subsidies

VII. Currency Conversion

VIII. Recommendation

[FR Doc. 2026-01191 Filed 1-21-26; 8:45 am]

BILLING CODE 3510-DS-P